COMMISSION ON CIVIL RIGHTS

Agenda and Notice of Public Meeting of the Louisiana Advisory Committee

Notice is hereby given, pursuant to the provisions of the rules and regulations of the U.S. Commission on Civil Rights (Commission), and the Federal Advisory Committee Act (FACA), that a State Advisory Committee (SAC) meeting of the Louisiana Advisory Committee to the Commission will convene on Thursday, May 10, 2012 at 2 p.m. and adjourn at approximately 5 p.m. (CST). The meeting will convene at Louisiana State University, Hebert Law Center, 1 East Campus Drive, Suite 400, Baton Rouge, Louisiana 70803. The purpose of the meeting is to conduct a briefing and planning meeting to collect preliminary information concerning potential racial disparities in the high incarceration of African-Americans in state-operated prisons.

The meeting is open to the public or through the following toll-free call-in number 1(866) 364-7584, conference call access code number 68145841. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and contact name Farella E. Robinson.

To ensure that the Commission secures an appropriate number of lines for the public, persons are asked to register by contacting Corrine Sanders of the Central Regional Office and TTY/TDD telephone number, by 4 p.m. on May 3, 2012.

Members of the public are entitled to submit written comments. The comments must be received in the regional office by June 11, 2012. The address is U.S. Commission on Civil Rights, 400 State Avenue, Suite 908, Kansas City, Kansas 66101. Persons wishing to email their comments, or to present their comments verbally at the meeting, or who desire additional information should contact Farella E. Robinson, Regional Director, Central Regional Office, at (913) 551-1400, (or for hearing impaired TDD 913-551-1414), or by email to frobinson@usccr.gov

Hearing-impaired persons who will attend the meeting and require the services of a sign language interpreter should contact the Regional Office at least ten (10) working days before the scheduled date of the meeting.

Records generated from this meeting may be inspected and reproduced at the Central Regional Office, as they become available, both before and after the meeting. Persons interested in the work of this advisory committee are advised to go to the Commission's Web site, www.usccr.gov, or to contact the Central Regional Office at the above email or street address.

The meeting will be conducted pursuant to the provisions of the rules and regulations of the Commission and FACA.

Dated in Washington, DC, April 13, 2012.
Peter Minarik,
Acting Chief, Regional Programs Coordination Unit.

[FR Doc. 2012-9296 Filed 4-17-12; 8:45 am]

BILLING CODE 6335-01-P